OFFICE OF THE UNITED STATES TRADE REPRESENTATIVE

Identification of Countries Under Section 182 of the Trade Act of 1974: Extension of Deadline for Public Comment on Out-of-Cycle Review of the People's Republic of China

AGENCY: Office of the United States Trade Representative.

ACTION: Notice.

SUMMARY: This notice extends by two weeks the deadline for the submission of comments in the Out-of-Cycle Review (OCR) of the People's Republic of China (China) under section 182 of the Trade Act of 1974 (Trade Act) (19 U.S.C. 2242), commonly referred to as the “Special 301” provision of the Trade Act.

DATES: Submissions must be received on or before 5 p.m. on Monday, February 14, 2005.

ADDRESSES: Comments should be addressed to Sybia Harrison, Special Assistant to the Section 301 Committee, and sent (i) electronically, to FR0446@ustr.eop.gov, with “Special 301 Out-of-Cycle Review” in the subject line, or (ii) by fax, to (202) 395-9458, with a confirmation copy sent electronically to the e-mail address above.

FOR FURTHER INFORMATION CONTACT: Ronald Meyers, Director of Intellectual Property and China, at (202) 395-9549, Angela Davis, Director of China Affairs, at (202) 395-3900, or Stanford McCoy, Assistant General Counsel, at (202) 395-3581, Office of the United States Trade Representative.

SUPPLEMENTARY INFORMATION: On May 3, 2004, the Office of the United States Trade Representative (USTR) announced the results of the 2004 Special 301 review and stated that an OCR would be conducted in early 2005 to assess China's actions to implement effectively the commitments it undertook under the Joint Commission on Commerce and Trade (JCCT), its WTO commitments, and a 1995 bilateral intellectual property agreement with the United States (including additional commitments made in 1996). On December 14, 2004, USTR requested written comments from the public concerning the acts, policies, and practices relevant for this review under section 182 of the Trade Act (69 FR 74561). The original deadline for submissions was Monday, January 31, 2005. In order to afford members of the public the fullest possible opportunity to respond to this request, USTR is extending the deadline for submissions by two weeks, to Monday, February 14, 2005. For details concerning the information requested and requirements for comments, respondents are asked to refer to the USTR request for written submissions from the public published in the Federal Register on December 14, 2004 (69 FR 74561).

James Mendenhall,
Assistant U.S. Trade Representative for Services, Investment, and Intellectual Property.

[FR Doc. 05-1883 Filed 2-1-05; 8:45 am]

BILLING CODE 3190-W5-P